DEPARTMENT OF THE INTERIOR

Bureau of Land Management

[LLMT921000-11-L13200000-EL0000-P; MTM 101687-MTM 101688]

Notice of Invitation-Coal Exploration License Applications MTM 101687 and MTM 101688

AGENCY: Bureau of Land Management, Interior.

ACTION: Notice.

SUMMARY: Members of the public are hereby invited to participate with the Spring Creek Coal Company on a pro rata cost sharing basis in a program for the exploration of coal deposits owned by the United States of America in lands located in Big Horn County, Montana, encompassing a combined 9,011.61 acres.

DATES: Any party seeking to participate in this exploration program must send written notice to both the Bureau of Land Management and Spring Creek Coal Company as provided in the “ADDRESSES” section below no later than May 12, 2011 or 10 calendar days after the last publication of this Notice in the Sheridan Press newspaper, whichever is later. This Notice will be published once a week for 2 consecutive weeks in the Sheridan Press, Sheridan, Wyoming. Such written notice must refer to serial numbers MTM 101687 or MTM 101688.

ADDRESSES: The proposed exploration license and plan are available for review from 9 a.m. to 4 p.m., Monday through Friday, in the public room at the BLM Montana State Office, 5001 Southgate Drive, Billings, Montana.

A written notice to participate in the exploration licenses should be sent to the State Director, BLM Montana State Office, 5001 Southgate Drive, Billings, Montana 59101-4669 and Spring Creek Coal Company, P.O. Box 67, Decker, Montana 59025-0067.

FOR FURTHER INFORMATION CONTACT: Robert Giovanini by telephone at 406-896-5084 or by e-mail at rgiovani@blm.gov; or Connie Schaff by telephone at 406-896-5060 or by e-mail at cschaff@blm.gov.

SUPPLEMENTARY INFORMATION: The exploration activities will be performed pursuant to the Mineral Leasing Act of 1920, as amended, 30 U.S.C. 201(b), and to the regulations at 43 CFR part 3410. The purpose of the exploration program is to gain additional geologic knowledge of the coal underlying the exploration area for the purpose of assessing the coal resources. The exploration program is fully described and will be conducted pursuant to an exploration license and plan approved by the BLM. The exploration plan may be modified to accommodate the legitimate exploration needs of persons seeking to participate.

The lands to be explored for coal deposits in exploration license MTM 101687 are described as follows:

Principal Meridian, Montana

T. 8 S., R. 38 E.,

Sec. 24, E½SE¼;

Sec. 25, E½NE¼ and NE¼SE¼.

T. 8 S., R. 39 E.,

Sec. 4, S½;

Sec. 5, lots 13 thru 26, inclusive, E½SW¼, and SE¼;

Sec. 8, lots 1 thru 4, inclusive, E½, and E½W½;

Sec. 9;

Sec. 13, SW¼NE¼, NE¼NW¼, N½NW¼NW¼, SE¼NW¼NW¼, N½SE¼NW¼,

SE¼SE¼NW¼, NE¼SE¼, NE¼NW¼SE¼, and SE¼SE¼;

Sec. 17, lots 1 thru 4, inclusive, E½, and E½W½;

Sec. 20, lots 1 thru 4, inclusive, E½, and E½W½;

Sec. 21, NW¼NW¼, S½N½, and S½;

Sec. 22, SW¼NW¼NE¼, SW¼NE¼, NW¼SE¼NE¼, S½SE¼NE¼, NW¼NE¼NW¼, S½NE¼NW¼, S½NW¼, N½NE¼SW¼, N½SE¼NE¼SW¼, N½NW¼SW¼, SW¼NW¼SW¼, and SW¼SW¼;

Sec. 27, W½NW¼ and W½SE¼NW¼;

Sec. 28, N½NE¼, NW¼, and NW¼SW¼;

Sec. 29, N½NE¼ and NE¼NW¼.

Containing 5,260.16 acres.

The Federal coal within the lands described for exploration license MTM 101667 is currently unleased for development of Federal coal reserves.

The lands to be explored for coal deposits in exploration license MTM 101688 are described as follows:

Principal Meridian, Montana

T. 8 S., R. 39 E.,

Sec. 26, SW¼SW¼ and S½SE¼SW¼;

Sec. 27, NE¼SW¼, SE¼NE¼SW¼, NW¼NW¼SE¼, S½NW¼SE¼, and S½SE¼;

Sec. 35, E½, E½W½, and NW¼NW¼.

T. 9 S., R. 39 E.,

Sec. 1, lots 1 thru 4, inclusive, W½E½, and W½;

Sec. 2, E½ and E½W½;

Sec. 11, NE¼, E½NW¼, NE¼SW¼, and N½SE¼;

Sec. 12, lots 1 thru 4, inclusive, W½E½, NW¼, N½SW¼, and SE¼SW¼.

T. 9 S., R. 40 E.,

Sec. 6, lots 5-7, inclusive, S½SE¼NW¼, E½SW¼, S½NE¼SE¼, NW¼NW¼SE¼, S½NW¼SE¼, and S½SE¼;

Sec. 7, lots 1-4, inclusive, NE¼, E½W½, N½SE¼, and SW¼SE¼.

Containing 3,751.45 acres.

The Federal coal within the lands described for exploration license MTM 101668 is currently unleased for development of Federal coal reserves.

The Spring Creek Coal Company has requested that the BLM's decision associated with exploration license MTM 101688 be deferred for approximately 9 months after the decision on exploration license MTM 101687.

Phillip C. Perlewitz,
Chief, Branch of Solid Minerals.

[FR Doc. 2011-8685 Filed 4-11-11; 8:45 am]

BILLING CODE 4310-DN-P